Title 3—

The President

Proclamation 9972 of December 9, 2019

Human Rights Day, Bill of Rights Day, and Human Rights Week, 2019

By the President of the United States of America

A Proclamation

Nearly two and a half centuries ago, American colonists broke free of a tyrannical monarchy and rose from the shadow of oppression, creating a new Republic predicated on liberty and the rule of law. Innate to the identity of this new Nation was a revolutionary commitment to the preservation of individual rights. The Framers drafted a Constitution that would ensure the God-given rights of the people. Nevertheless, some of them believed more was needed and insisted upon the enumeration of a set of rights that would be protected from government interference. As a result, the United States ratified 10 Amendments to our Constitution, known as the Bill of Rights. On this day, we pay tribute to these profound protections provided to all Americans, and we reaffirm our commitment to safeguarding them.

James Madison, the “Father of the Constitution,” was once a skeptic of the need for a Bill of Rights, pondering whether such “parchment barriers” could prevent government intrusion on our liberty. After some persuasion from his friend Thomas Jefferson, however, Madison eventually supported the adoption of the Bill of Rights to achieve the compromise necessary to ratify the Constitution. Jefferson famously wrote to Madison: “A bill of rights is what the people are entitled to against every government on earth, general or particular, and what no just government should refuse or rest on inference.” In the 228 years since the adoption of the Bill of Rights, it has continuously served as the guarantor of some of our most cherished freedoms: the right to practice the religion we choose, the right to speak freely and openly, the right to privacy, and the right to keep and bear arms.

Since taking office, I have worked to confine government authority to its proper, constitutional scope. In May of 2017, I signed an Executive Order defending religious freedom and freedom of speech to better protect the First Amendment rights of all Americans. I signed another Executive Order in March to promote free speech on college campuses, protecting free inquiry and open debate at universities across the country. These orders recognize that freedom of speech is a fundamental right that must always be guarded vigilantly.

Underlying our Bill of Rights is the understanding that all human beings are endowed with certain inalienable rights and that it is the duty of every government to protect these rights. On December 10, 1948, inspired by the Bill of Rights, the United Nations General Assembly adopted the Universal Declaration of Human Rights. This historic document drew global recognition of “the inherent dignity and of the equal and inalienable rights of all members of the human family.” Unfortunately, however, millions around the world still suffer from unjust imprisonment, religious persecution, and countless other human rights abuses. As part of my Administration's efforts to protect human rights, in July, the Department of State hosted the second Ministerial to Advance Religious Freedom, and in October, I was honored to be the first President to host a meeting at the United Nations on religious freedom.

During Human Rights Day, Bill of Rights Day, and Human Rights Week, we celebrate the Bill of Rights for safeguarding our God-given rights and protecting us from the abuse of government power. We also acknowledge the truth that people around the world are empowered when human rights are protected by law. The United States has long been at the forefront of this effort, and we will always stand up for individual freedoms and against all forms of oppression.

NOW, THEREFORE, I, DONALD J. TRUMP, President of the United States of America, by virtue of the authority vested in me by the Constitution and the laws of the United States, do hereby proclaim December 10, 2019, as Human Rights Day; December 15, 2019, as Bill of Rights Day; and the week beginning on December 8, 2019, as Human Rights Week. I call upon the people of the United States to mark these observances with appropriate ceremonies and activities.

IN WITNESS WHEREOF, I have hereunto set my hand this ninth day of December, in the year of our Lord two thousand nineteen, and of the Independence of the United States of America the two hundred and forty-fourth.

[FR Doc. 2019-27106

Filed 12-12-19; 11:15 am]

Billing code 3295-F0-P